DEPARTMENT OF COMMERCE

International Trade Administration

[C-122-839]

Notice of Extension of Time Limit for Final Results of Countervailing Duty Administrative Review: Certain Softwood Lumber from Canada

AGENCY: Import Administration, International Trade Administration, Department of Commerce.

EFFECTIVE DATE: August 31, 2005.

FOR FURTHER INFORMATION CONTACT: Robert Copyak or Eric Greynolds, AD/CVD Operations, Office 3, Import Administration, International Trade Administration, U.S. Department of Commerce, 14th Street and Constitution Avenue, NW, Washington, DC 20230; telephone (202) 482-2209 and (202) 482-6071, respectively.

SUPPLEMENTARY INFORMATION:

Background Information

On June 30, 2005, the U.S. Department of Commerce (“Department”) published a notice of initiation of administrative review on the countervailing duty order of certain softwood lumber from Canada, covering the period April 1, 2003, through March 31, 2004. See Initiation of Antidumping and Countervailing Duty Administrative Reviews and Request for Revocation in Part, 69 FR 39409 (June 30, 2005). The preliminary results of this administrative review were published on June 7, 2005. See Notice of Preliminary Results of Countervailing Duty Administrative Review: Certain Softwood Lumber Products from Canada, 70 FR 33088 (June 7, 2005). On July 1, 2005, at the request of the parties, the time periods for filing case briefs and rebuttal briefs was extended to August 11, 2005, and August 18, 2005, respectively. See memorandum from Eric B. Greynolds to file, dated July 1, 2005, and titled “Briefing Schedule,” which is on file in the public file room in room B-099 of the main Commerce building.

Extension of Time Limit for Final Results of Review

Section 751(a)(3)(A) of the Tariff Act of 1930, as amended (“the Act”), requires the Department to issue final results in an administrative review within 120 days after the date on which the preliminary results were published. However, if it is not practicable to complete the final results of review within this time period, section 751(a)(3)(A) of the Act allows the Department to extend the time limit for the final results to 180 days from the date of publication of the preliminary results.

Due to the extension of time periods for filing case briefs and rebuttal briefs, the large volume of issues raised by parties in their briefs, and the complexity of these issues, we find that it is not practicable for the Department to complete the final results of the administrative review within the 120-day statutory time frame. Therefore, the Department is extending the time limit for completion of the final results until December 4, 2005, which is 180 days from the date of publication of the preliminary results. However, December 4 falls on Sunday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the final results is December 5, 2005.

This notice is issued and published in accordance with section 751(a)(3)(A) of the Act.

Dated: August 25, 2005.
Barbara E. Tillman,
Acting Deputy Assistant Secretary for Import Administration.

[FR Doc. E5-4769 Filed 8-30-05; 8:45 am]

BILLING CODE 3510-DS-S